DEPARTMENT OF COMMERCE

Economic Development Administration

Notice of Petitions by Firms for Determination of Eligibility To Apply for Trade Adjustment Assistance

AGENCY: Economic Development Administration, U.S. Department of Commerce.

ACTION: Notice and opportunity for public comment.

SUMMARY: The Economic Development Administration (EDA) has received petitions for certification of eligibility to apply for Trade Adjustment Assistance from the firms listed below. Accordingly, EDA has initiated investigations to determine whether increased imports into the United States of articles like or directly competitive with those produced by each of the firms contributed importantly to the total or partial separation of the firms' workers, or threat thereof, and to a decrease in sales or production of each petitioning firm.

SUPPLEMENTARY INFORMATION:

List of Petitions Received by EDA for Certification of Eligibility To Apply for Trade Adjustment Assistance
[10/12/2018 through 11/19/2018]
Firm name | Firm address | Date accepted for investigation | Product(s)
Truebite, Inc | 2590 Glenwood Road, Vestal, NY 13850 | 11/7/2018 | The firm manufactures custom nail files for the promotional products industry.
Tuff-Bilt Tractors Manufacturing, Inc | 2801 I Avenue, Walthill, NE 68067 | 11/8/2018 | The firm manufactures tractors and farm implements.
Stephens Precision, Inc | 293 Industrial Drive, Bradford, VT 05033 | 11/13/2018 | The firm manufactures custom metal and plastic parts for aerospace, defense, and other industries.
Fuller Foods, Inc | 5040 SE Milwaukie Avenue, Portland, OR 97202 | 11/16/2018 | The firm manufactures cheesy puffs, a snack food.
The Homer Laughlin China Company | 672 Fiesta Drive, Newell, WV 26050 | 11/19/2018 | The firm manufactures ceramic dinnerware for retail and foodservice markets.

Any party having a substantial interest in these proceedings may request a public hearing on the matter. A written request for a hearing must be submitted to the Trade Adjustment Assistance Division, Room 71030, Economic Development Administration, U.S. Department of Commerce, Washington, DC 20230, no later than ten (10) calendar days following publication of this notice. These petitions are received pursuant to section 251 of the Trade Act of 1974, as amended.

Please follow the requirements set forth in EDA's regulations at 13 CFR 315.9 for procedures to request a public hearing. The Catalog of Federal Domestic Assistance official number and title for the program under which these petitions are submitted is 11.313, Trade Adjustment Assistance for Firms.

Irette Patterson,
Program Analyst.

[FR Doc. 2018-25743 Filed 11-26-18; 8:45 am]

BILLING CODE 3510-WH-P